ENVIRONMENTAL PROTECTION AGENCY

40 CFR Part 52

[KY-200404; FRL-7601-2]

Approval and Promulgation of Air Quality Implementation Plans; Kentucky Update to Materials Incorporated by Reference

AGENCY: Environmental Protection Agency (EPA).

ACTION: Final rule; notice of administrative change.

SUMMARY: EPA is updating the materials submitted by Kentucky that are incorporated by reference (IBR) into the Kentucky State Implementation Plan (SIP). The regulations affected by this update have been previously submitted by the state agency and approved by EPA. In this document, EPA is updating the material being IBRed, modifying the IBR table format, and correcting erroneous dates. EPA is also revising the “EPA-Approved Kentucky Non-regulatory Provisions” table by removing provisions which are no longer in effect and provisions which were later revised and are listed elsewhere in the table. This table now lists the most current, approved non-regulatory provision rather than tracking the approval history of individual provisions. This update affects the SIP materials that are available for public inspection at the Office of the Federal Register (OFR), Office of Air and Radiation Docket and Information Center, and the Regional Office.

EFFECTIVE DATE: This action is effective January 12, 2004.

ADDRESSES: SIP materials which are incorporated by reference into 40 CFR part 52 are available for inspection at the following locations: Environmental Protection Agency, Region 4, 61 Forsyth Street, SW., Atlanta, GA 30303; Office of Air and Radiation Docket and Information Center, Room B-108, 1301 Constitution Avenue, (Mail Code 6102T) NW., Washington, DC 20460, and Office of the Federal Register, 800 North Capitol Street, NW., Suite 700, Washington, DC.

FOR FURTHER INFORMATION CONTACT: Michele Notarianni at the above Region 4 address, by phone at (404) 562-9031, or via e-mail at: notarianni.michele@epa.gov.

SUPPLEMENTARY INFORMATION: The SIP is a living document which the State can revise as necessary to address the unique air pollution problems in the State. Therefore, EPA from time to time must take action on SIP revisions containing new and/or revised regulations as being part of the SIP. On May 22, 1997, (62 FR 27968) EPA revised the procedures for incorporating by reference Federally-approved SIPs, as a result of consultations between EPA and OFR. The description of the revised SIP document, IBR procedures and “Identification of plan” format are discussed in further detail in the May 22, 1997, Federal Register document. On May 27, 1999, EPA published a document in the Federal Register (64 FR 28750) with the new IBR procedure for Kentucky. In this document, EPA is updating the material being IBRed, modifying the IBR table format, and correcting erroneous dates. EPA is also revising the “EPA-Approved Kentucky Non-regulatory Provisions” table by removing provisions which are no longer in effect and provisions which were later revised and are listed elsewhere in the table. This table now lists the most current, approved non-regulatory provision rather than tracking the approval history of individual provisions.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 12, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 4, 2003.
A. Stanley Meiburg,
Acting Regional Administrator, Region 4.

Chapter I, title 40, Code of Federal Regulations, is amended as follows:

PART 52—[AMENDED]

1. The authority for citation for part 52 continues to read as follows:

Authority: 42 U.S.C. 7401 et seq.

Subpart S—Kentucky

2. Section 52.920 paragraphs (b), (c), and (d) are revised to read as follows:

§ 52.920 Identification of plan.

* * * * *

(b) Incorporation by reference.

(1) Material listed in paragraph (c) of this section with an EPA approval date prior to October 1, 2003, for the Commonwealth of Kentucky (Table 1) and November 23, 2001, for Jefferson County, Kentucky (Table 2) was approved for incorporation by reference by the Director of the Federal Register in accordance with 5 U.S.C. 552(a) and 1 CFR part 51. Material is incorporated as it exists on the date of the approval, and notice of any change in the material will be published in the Federal Register. Entries in paragraph (c), Table 1, and paragraph (d) of this section with EPA approval dates after October 1, 2003, will be incorporated by reference in the next update to the SIP compilation.

(2) EPA Region 4 certifies that the rules/regulations provided by EPA in the SIP compilation at the addresses in paragraph (b)(3) of this section are an exact duplicate of the officially promulgated state rules/regulations which have been approved as part of the State and Local Implementation Plans listed in paragraph (b)(1) of this section.

(3) Copies of the materials incorporated by reference may be inspected at the Region 4 EPA Office at 61 Forsyth Street, SW., Atlanta, GA 30303; the Office of the Federal Register, 800 North Capitol Street, NW., Suite 700, Washington, DC.; or at the EPA, Office of Air and Radiation Docket and Information Center, Room B-108, 1301 Constitution Avenue, (Mail Code 6102T) NW., Washington, DC 20460.

(c) EPA-approved regulations.

Table 1.—EPA-Approved Kentucky Regulations
State citation | Title/subject | State effective date | EPA approval date | Explanation
Chapter 50 Division for Air Quality; General Administrative Procedures
401 KAR 50:005 | General application | 06/06/79 | 07/12/82, 47 FR 30059.
401 KAR 50:010 | Definitions and abbreviations of terms used in Title 401, Chapters 50, 51, 53, 55, 57, 59, 61, 63, and 65 | 06/06/96 | 01/21/97, 62 FR 2915.
401 KAR 50:012 | General application | 11/12/97 | 07/24/98, 63 FR 39739.
401 KAR 50:015 | Documents incorporated by reference | 04/14/88 | 02/07/90, 55 FR 4169.
401 KAR 50:020 | Air quality control regions | 06/06/79 | 07/12/82, 47 FR 30059.
401 KAR 50:025 | Classification of counties | 06/01/83 | 04/02/96, 61 FR 14489.
401 KAR 50:030 | Registration of sources | 06/06/79 | 07/12/82, 47 FR 30059.
401 KAR 50:032 | Prohibitory rule for hot mix asphalt plants | 04/13/98 | 03/10/00, 65 FR 12948.
401 KAR 50:035 | Permits | 09/28/94 | 09/27/95, 60 FR 49775.
401 KAR 50:040 | Air quality models | 06/06/79 | 07/12/82, 47 FR 30059.
401 KAR 50:042 | Good engineering practice stack height | 06/10/86 | 09/04/87,52 FR 33592.
401 KAR 50:045 | Performance tests | 06/06/79 | 07/12/82, 47 FR 30059.
401 KAR 50:047 | Test procedures for capture efficiency | 06/24/92 | 06/23/94, 59 FR 32343.
401 KAR 50:050 | Monitoring | 06/06/79 | 07/12/82, 47 FR 30059.
401 KAR 50:055 | General compliance requirements | 09/22/82 | 05/04/89, 54 FR 19169.
401 KAR 50:060 | Enforcement | 06/06/79 | 07/12/82, 47 FR 30059.
401 KAR 50:065 | Conformity of general federal actions | 10/11/95 | 07/27/98, 63 FR 40044.
Chapter 51 Attainment and Maintenance of the National Ambient Air Quality Standards
401 KAR 51:001 | Definitions for 401 KAR Chapter 51 | 12/18/02 | 06/24/03, 68 FR 37418.
401 KAR 51:005 | Purpose and general provisions | 06/06/79 | 07/12/82, 47 FR 30059.
401 KAR 51:010 | Attainment status designations | 11/12/97 | 07/24/98, 63 FR 39739.
401 KAR 51:017 | Prevention of significant deterioration of air quality | 03/12/97 | 07/24/98, 63 FR 39741.
401 KAR 51:052 | Review of new sources in or impacting upon nonattainment areas | 02/08/93 | 06/23/94, 59 FR 32343.
401 KAR 51:160 | NOX requirements for large utility and industrial boilers | 12/18/02 | 06/24/03, 68 FR 37418.
401 KAR 51:170 | NOX requirements for cement kilns | 08/15/01 | 04/11/02, 67 FR 17624.
401 KAR 51:180 | NOX credits for early reduction and emergency | 08/15/01 | 04/11/02, 67 FR 17624.
401 KAR 51:190 | Banking and trading NOX allowances | 08/15/01 | 04/11/02, 67 FR 17624.
401 KAR 51:195 | NOX opt-in provisions | 08/15/01 | 04/11/02, 67 FR 17624.
Chapter 53 Ambient Air Quality
401 KAR 53:005 | General provisions | 04/14/88 | 02/07/90, 55 FR 4169.
401 KAR 53:010 | Ambient air quality standards | 04/14/88 | 02/07/90 55 FR 4169.
Chapter 55 Emergency Episodes
401 KAR 55:005 | Significant harm criteria | 04/14/88 | 02/07/90, 55 FR 4169.
401 KAR 55:010 | Episode criteria | 04/14/88 | 02/07/90, 55 FR 4169.
401 KAR 55:015 | Episode declaration | 06/06/79 | 01/25/80, 45 FR 6092.
401 KAR 55:020 | Abatement strategies | 06/06/79 | 01/25/80, 45 FR 6092.
Chapter 59 New Source Standards
401 KAR 59:001 | Definitions and abbreviations of terms used in Title 401, Chapter 59 | 06/06/96 | 01/21/97, 62 FR 2915.
401 KAR 59:005 | General provisions | 12/01/82 | 12/04/86, 51 FR 43742.
401 KAR 59:010 | New process operations | 04/14/88 | 02/07/90, 55 FR 4169.
401 KAR 59:015 | New indirect heat exchangers | 01/07/81 | 03/22/83, 48 FR 11945.
401 KAR 59:020 | New incinerators | 06/06/79 | 07/12/82, 47 FR 30059.
401 KAR 59:046 | Selected new petroleum refining processes and equipment | 06/29/79 | 08/07/81, 46 FR 40188.
401 KAR 59:050 | New storage vessels for petroleum liquids | 02/04/81 | 03/30/83, 48 FR 13168.
401 KAR 59:080 | New kraft (sulfate) pulp mills | 06/06/79 | 01/25/80, 45 FR 6092.
401 KAR 59:085 | New sulfite pulp mills | 06/06/79 | 07/12/82, 47 FR 30059.
401 KAR 59:090 | New ethylene producing plants | 06/06/79 | 07/12/82, 47 FR 30059.
401 KAR 59:095 | New oil-effluent water separators | 06/29/79 | 08/07/81, 46 FR 40188.
401 KAR 59:101 | New bulk gasoline plants | 09/28/94 | 06/28/96, 61 FR 33674.
401 KAR 59:105 | New process gas steams | 04/07/82 | 03/22/83, 48 FR 11945.
401 KAR 59:174 | Stage II controls at gasoline dispensing facilities | 01/12/98 | 12/08/98, 63 FR 67586
401 KAR 59:175 | New service stations | 02/08/93 | 06/23/94, 59 FR 32343.
401 KAR 59:185 | New solvent metal cleaning equipment | 06/24/92 | 06/23/94, 59 FR 32343.
401 KAR 59:190 | New insulation of magnet wire operations | 06/24/92 | 06/23/94, 59 FR 32343.
401 KAR 59:210 | New fabric, vinyl and paper surface coating operations | 06/24/92 | 06/23/94, 59 FR 32343.
401 KAR 59:212 | New graphic arts facilities using rotogravure and flexography | 06/24/92 | 06/23/94, 59 FR 32343.
401 KAR 59:214 | New factory surface coating operations of flat wood paneling | 06/24/92 | 06/23/94, 59 FR 32343.
401 KAR 59:225 | New miscellaneous metal parts and products surface coating operation | 06/24/92 | 06/23/94, 59 FR 32343.
401 KAR 59:230 | New synthesized pharmaceutical product manufacturing operations | 06/24/92 | 06/23/94, 59 FR 32343.
401 KAR 59:235 | New pneumatic rubber tire manufacturing plants | 02/04/81 | 03/30/83, 48 FR 13168.
401 KAR 59:240 | New perchloroethylene dry cleaning systems | 06/24/92 | 06/23/94, 59 FR 32343.
401 KAR 59:315 | Specific new sources | 06/24/92 | 06/23/94, 59 FR 32343.
Chapter 61 Existing Source Standards
401 KAR 61:001 | Definitions and abbreviations of terms used in 401 KAR Chapter 61 | 06/06/96 | 01/21/97, 62 FR 2915.
401 KAR 61:005 | General provisions | 12/01/82 | 05/04/89, 54 FR 19169.
401 KAR 61:010 | Existing incinerators | 06/06/79 | 05/04/89, 54 FR 19169.
401 KAR 61:015 | Existing indirect heat exchangers | 06/01/83 | 04/02/96, 61 FR 14489.
401 KAR 61:020 | Existing process operations | 04/14/88 | 02/07/90, 55 FR 4169.
401 KAR 61:025 | Existing kraft (sulfate) pulp mills | 06/06/79 | 05/26/82, 47 FR 22955
401 KAR 61:030 | Existing sulfuric acid plants | 06/06/79 | 03/22/83, 48 FR 11945.
401 KAR 61:035 | Existing process gas streams | 04/07/82 | 03/22/83, 48 FR 11945.
401 KAR 61:040 | Existing ethylene producing plants | 06/06/79 | 01/25/80, 45 FR 6092.
401 KAR 61:045 | Existing oil-effluent water separators | 06/29/79 | 08/07/81, 46 FR 40188.
401 KAR 61:050 | Existing storage vessels for petroleum liquids | 06/24/92 | 06/23/94, 59 FR 32345.
401 KAR 61:055 | Existing loading facilities at bulk gasoline terminals | 08/24/82 | 03/30/83, 48 FR 13168.
401 KAR 61:056 | Existing bulk gasoline plants | 09/28/94 | 06/28/96, 61 FR 33674.
401 KAR 61:060 | Existing sources using organic solvents | 06/29/79 | 01/25/80, 45 FR 6092.
401 KAR 61:065 | Existing nitric acid plants | 06/06/79 | 07/12/82, 47 FR 30059.
401 KAR 61:070 | Existing ferroalloy production facilities | 06/06/79 | 05/03/84, 49 FR 18833.
401 KAR 61:075 | Steel plants and foundries using existing electric arc furnaces | 12/01/82 | 05/04/89, 54 FR 19169.
401 KAR 61:080 | Steel plants using existing basic oxygen process furnaces | 04/01/84 | 05/04/89, 54 FR 19169.
401 KAR 61:085 | Existing service stations | 02/08/93 | 06/23/94, 59 FR 32343.
401 KAR 61:090 | Existing automobile and light-duty truck surface coating operations | 06/24/92 | 06/23/94, 59 FR 32343.
401 KAR 61:095 | Existing solvent metal cleaning equipment | 06/24/92 | 06/23/94, 59 FR 32343.
401 KAR 61:100 | Existing insulation of magnet wire operations | 06/24/92 | 06/23/94, 59 FR 32343.
401 KAR 61:105 | Existing metal furniture surface coating operations | 06/24/92 | 06/23/94, 59 FR 32343.
401 KAR 61:110 | Existing large appliance surface coating operations | 06/24/92 | 06/23/94, 59 FR 32343.
401 KAR 61:120 | Existing fabric, vinyl and paper surface coating operations | 06/24/92 | 06/23/94, 59 FR 32343.
401 KAR 61:122 | Existing graphic arts facilities using rotogravure and flexography | 06/24/92 | 06/23/94, 59 FR 32343.
401 KAR 61:124 | Existing factory surface coating operations of flat wood paneling | 06/24/92 | 06/23/94 59 FR 32343.
401 KAR 61:125 | Existing can surface coating operations | 06/24/92 | 06/23/94, 59 FR 32343.
401 KAR 61:130 | Existing coil surface coating operations | 06/24/92 | 06/23/94, 59 FR 32343.
401 KAR 61:132 | Existing miscellaneous metal parts and products surface coating operations | 06/24/92 | 06/23/94, 59 FR 32343.
401 KAR 61:135 | Selected existing petroleum refining processes and equipment | 06/29/79 | 01/25/80, 45 FR 6092.
401 KAR 61:137 | Leaks from existing petroleum refinery equipment | 06/24/92 | 06/23/94, 59 FR 32343.
401 KAR 61:140 | Existing by-product coke manufacturing plants | 09/04/86 | 05/04/89, 54 FR 19169.
401 KAR 61:145 | Existing petroleum refineries | 01/07/81 | 03/22/83, 48 FR 11945.
401 KAR 61:150 | Existing synthesized pharmaceutical product manufacturing operations | 06/24/92 | 06/23/94, 59 FR 32343.
401 KAR 61:155 | Existing pneumatic rubber tire manufacturing plants | 06/24/92 | 06/23/94, 59 FR 32343.
401 KAR 61:160 | Existing perchloroethylene dry cleaning systems | 06/24/92 | 06/23/94, 59 FR 32343.
401 KAR 61:165 | Existing primary aluminum reduction plants | 06/04/85 | 12/02/86, 51 FR 43395.
401 KAR 61:170 | Existing blast furnace casthouses | 04/14/88 | 02/07/90, 55 FR 4169.
401 KAR 61:175 | Leaks from existing synthetic organic chemical and polymer manufacturing equipment | 06/24/92 | 06/23/94, 59 FR 32343.
Chapter 63 General Standards of Performance
401 KAR 63:001 | Definitions and abbreviations of terms used in 401 KAR Chapter 63 | 06/06/96 | 01/21/97, 62 FR 2915.
401 KAR 63:005 | Open burning | 01/12/98 | 12/08/98, 63 FR 67586.
401 KAR 63:010 | Fugitive emissions | 06/06/79 | 07/12/82, 47 FR 30059.
401 KAR 63:015 | Flares | 06/06/79 | 12/24/80, 45 FR 84999.
401 KAR 63:020 | Potentially hazardous matter or toxic substances | 06/06/79 | 12/24/80, 45 FR 84999.
401 KAR 63:025 | Asphalt paving operations | 06/24/92 | 06/23/94, 59 FR 32343.
401 KAR 63:031 | Leaks from gasoline tank trunks | 02/08/93 | 06/23/94, 59 FR 32343.
Chapter 65 Mobile Source-Related Emissions
401 KAR 65:001 | Definitions and abbreviations of terms used in 401 KAR Chapter 65 | 08/15/01 | 09/24/02, 67 FR 59785.
401 KAR 65:005 | Liquefied petroleum gas carburetion systems | 06/06/79 | 01/25/80, 45 FR 6092.
401 KAR 65:010 | Vehicle emission control programs | 08/15/01 | 09/24/02, 67 FR 59785.

(d) EPA-approved source-specific requirements.

EPA-Approved Kentucky Source-Specific Requirements
Name of source | Permit No. | State effective date | EPA approval date | Explanations
Bubble action at Kentucky Utilities Green River Plant | N/A | 12/01/80 | 06/15/81, 46 FR 31260. |
Bubble action at Corning Glassworks | N/A | 05/18/81 | 10/29/81, 46 FR 53408. |
Bubble action at National Distillers Company's, Old Crow Plant | N/A | 12/24/80 | 09/14/81, 46 FR 45610. |
Bubble action at General Electric in Louisville | N/A | 08/07/81 | 01/12/82, 47 FR 1291. |
Bubble action at Borden Chemical CO in Jefferson CO. | N/A | 03/05/82 | 05/11/82, 47 FR 20125. |
Variance for seven perchloroethylene dry cleaners | N/A | 08/04/82 | 05/02/83, 48 FR 19176. |
Variance for two dry cleaners | N/A | 01/27/83 | 05/05/83, 48 FR 20233. |
Variance for Jiffy and Hiland Dry Cleaners | N/A | 04/25/84 | 04/18/85, 50 FR 15421. |
TVA Paradise Permit | KDEPDAQ Permit 0-87-012 | 06/29/87 | 08/25/89, 54 FR 35326. |
Opacity variance for boiler Units 1 and 2 of TVA's Paradise Steam Plant | KDEPDAQ Permit 0-86-75 | 07/24/96 | 08/17/88, 53 FR 30998. |
Operating Permits for nine presses at the Alcan Foil Products facility—Louisville | APCDJC Permits 103-74, 104-74, 105-74, 103-74, 110-74, 111-74 | 02/28/90 | 05/16/90, 55 FR 20269.
Operating Permit requiring VOC RACT for Calgon CO | KDEPDAQ Permit 0-94-020 | 11/17/94 | 05/24/95, 60 FR 27411. |
Reynolds Metals Company | APCDJC Permits 103-74, 104-74, 016-74, 110-74, 111-74 | 04/16/97 | 01/13/98, 63 FR 1929. |
Alternative Averaging Period for American Greetings Corporation | KDEPDAQ Permit V-98-049 | 07/07/99 | 05/09/01, 66 FR 23617. |
Title V permit requiring VOC RACT for Publisher's Printing, Inc., Bullitt County | KDEPDAQ Permit 21-029-00019 | 07/20/01 | 10/23/01, 66 FR 53664. |
Board Order American Synthetic Rubber Company | NOX RACT Plan 12/20/00 | 01/01/01 | 10/23/01, 66 FR 53684. |
Board Order E.I. du Pont de Nemours & Company | NOX RACT Plan 02/21/01 | 03/01/01 | 10/23/01, 66 FR 53684. |
Board Order Ford Louisville Assembly Plant | NOX RACT Plan 11/08/99 | 01/01/00 | 10/23/01, 66 FR 53684. |
Board Order General Electric Company | NOX RACT Plan 01/17/01 | 03/01/01 | 10/23/01, 66 FR 53684. |
Board Order Kosmos Cement Company | NOX RACT Plan 11/15/00 | 01/01/01 | 10/23/01, 66 FR 53684. |
Board Order Louisville Gas and Electric Company, Cane Run Generating Station | NOX RACT Plan 10/18/00 | 01/01/01 | 10/23/01, 66 FR 53684. |
Board Order Louisville Gas and Electric Company, Mill Creek Generating Station | NOX RACT Plan 10/18/00 | 01/01/01 | 10/23/01, 66 FR 53684. |
Board Order Louisville Medical Center Steam Plant | NOX RACT Plan 02/21/01 | 04/01/01 | 10/23/01, 66 FR 53685. |
Board Order Oxy Vinyls, LP | NOX RACT Plan 12/20/00 | 01/01/01 | 10/23/01, 66 FR 53685. |
Board Order Rohm and Haas Company | NOX RACT Plan 12/20/00 | 01/01/01 | 10/23/01, 66 FR 53685. |
Board Order Texas Gas Transmission | NOX RACT Plan 11/08/99 | 01/01/00 | 10/23/01, 66 FR 53685. |
Lawson Mardon Packaging, USA, Inc. | N/A | 08/11/03 | 07/10/03, 68 FR 41084. |

(e) EPA-approved non-regulatory provisions.

EPA—Approved Kentucky Non-regulatory Provisions
Name of non-regulatory SIP provision | Applicable geographic or nonattainment area | State submittal date/effective date | EPA approval date | Explanations
Air Quality surveillance plan | Commonwealth of Kentucky | 11/15/79 | 11/16/81, 46 FR 56198.
Protection Visibility in Class I Areas | Mammoth Cave National Park (Class I area) | 08/31/97 | 07/12/88, 53 FR 26253.
Small Business Assistance Program | Commonwealth of Kentucky | 07/15/93 | 06/19/95, 60 FR 31915.
Lexington Maintenance Plan | Fayette County, Scott County | 01/15/93 | 09/11/95, 60 FR 47094.
Ashland-Huntington Maintenance Plan | Boyd County, Greenup County | 05/24/95 | 06/29/95, 60 FR 33752.
Maintenance Plan for Owensboro & Edmonson County Area | Daviess County, Hancock County, Edmonson County | 04/14/98 | 09/03/98, 63 FR 46898.
Northern Kentucky 15% Plan & I/M | Boone, Campbell and Kenton Counties | 09/11/98 | 12/08/98, 63 FR 67591.
Negative Declarations for the nonattainment portions of Bullitt and Oldham Counties in Louisville 1-hour moderate ozone nonattainment area for CTG rules for aerospace, SOCMI, shipbuilding, and wood furniture manufacturing | Jefferson County, Bullitt County, Oldham County | 12/14/99 | 10/23/01, 66 FR 53665.
Negative Declarations submitted by the Air Pollution Control District of Jefferson County for the Louisville 1-hour moderate ozone nonattainment area for CTG rules for aerospace, shipbuilding, and wood furniture manufacturing | Jefferson County, Bullitt County, Oldham County | 02/26/01 | 10/23/01, 66 FR 53665.
Louisville Ozone Maintenance Plan | Jefferson County and portions of Bullitt and Oldham Counties | 07/09/01 | 10/23/01, 66 FR and 53685.
Maintenance Plan for Paducah Area | Marshall County and a portion of Livingston County | 06/14/01 | 08/20/01, 66 FR 43488.
Northern Kentucky Maintenance Plan revisions | Boone, Campbell and Kenton Counties | 05/02/03 | 05/30/03, 68 FR 32384.

* * * * *

[FR Doc. 04-459 Filed 1-9-04; 8:45 am]

BILLING CODE 6560-50-P